ENVIRONMENTAL PROTECTION AGENCY

[OAR-2004-0081; FRL-7832-4]

Agency Information Collection Activities; Submission to OMB for Review and Approval; Comment Request; Prevention of Significant Deterioration Non-Attainment Area New Source Review (Renewal), ICR Number 1230.17, OMB Number 2060-0003

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before December 2, 2004.

ADDRESSES: Submit your comments, referencing docket ID number OAR-2004-0081, to (1) EPA online using EDOCKET (our preferred method), or by mail to: Environmental Protection Agency, EPA Docket Center (EPA/DC), Air and Radiation Docket and Information Center, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Juan E. Santiago, Information Transfer and Program Integration Division (C339-03), U.S. EPA Office of Air Quality Planning and Standards, Research Triangle Park, North Carolina 27711, telephone number: (919) 541-1084; fax number (919) 541-5509; e-mail address: santiago.juan@epa.gov.

SUPPLEMENTARY INFORMATION: EPA has submitted the following ICR to OMB for review and approval according to the procedures prescribed in 5 CFR 1320.12. On August 3, 2004 (69 FR 46532), EPA sought comments on this ICR pursuant to 5 CFR 1320.8(d). EPA received one comment and has addressed the comments received.

EPA has established a public docket for this ICR under Docket ID No. OAR-2004-0081, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Prevention of Significant Deterioration Non-Attainment Area New Source Review (Renewal).

Abstract: Part C of the Clean Air Act (Act)—“Prevention of Significant Deterioration,” and Part D—“Plan Requirements for Nonattainment Areas,” require all States to adopt preconstruction review programs for new or modified stationary sources of air pollution. In addition, the provisions of Section 110 of the Act include a requirement for States to have a preconstruction review program to manage the emissions from the construction and modification of any stationary source of air pollution to assure that the National Ambient Air Quality Standards (NAAQS) are achieved and maintained. Implementing regulations for these three programs are promulgated at 40 CFR 51.160 through 51.166 and 40 CFR 52.21 and 52.24.

In order to receive a construction permit for a major new source or major modification, the applicant must conduct the necessary research, perform the appropriate analyses and prepare the permit application with documentation to demonstrate that their project meets all applicable statutory and regulatory New Source Review (NSR) requirements. Specific activities and requirements are listed and described in the Supporting Statement for the ICR.

Reviewing authorities, either State, local or Federal, review the permit application and provide for public review of the proposed project and issue the permit based on their consideration of all technical factors and public input. The EPA, more broadly, reviews a fraction of the total applications and audits the State and local programs for their effectiveness. Consequently, information prepared and submitted by the source is essential for the source to receive a permit, and for Federal, State and local environmental agencies to adequately review the permit application and thereby properly administer and manage the NSR programs.

Information that is collected and handled according to EPA's policies is set forth in Title 40, chapter 1, part 2, subpart B—Confidentiality of Business Information (see 40 CFR part 2). See also section 114(c) of the Act.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to be broken down as follows:

Type of permit action | Major PSD | Major Part D | Minor
Number of sources | 265 | 488 | 74,500
Burden Hours per Response:
Industry | 839 | 577 | 40
Permitting Agencies | 272 | 109 | 30

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Industrial plants, State and local permitting agencies.

Estimated Number of Respondents: 150,723.

Frequency of Response: 1 per respondent.

Estimated Total Annual Hour Burden: 5,851,126 hours.

Estimated Total Annual Cost: $339,938,463, which includes $0 annual capital/startup costs, $0 annual O&M costs, and $339,938,463 annual labor costs.

Changes in the Estimates: There is an increase of 972,492 hours in the total estimated burden currently identified in the OMB Inventory of Approved ICR Burdens. This increase is due to the upward adjustment in the number of minor source actions estimated for this renewal.

Dated: October 26, 2004.
Joseph A. Sierra,
Acting Director, Collection Strategies Division.

[FR Doc. 04-24419 Filed 11-1-04; 8:45 am]

BILLING CODE 6560-50-P